DEPARTMENT OF COMMERCE

Office of the Secretary

[Docket Number 050105003-5003-01]

Estimates of the Voting Age Population for 2004

AGENCY: Office of the Secretary, Commerce.

ACTION: General notice announcing population estimates.

SUMMARY: This notice announces the voting age population estimates, as of July 1, 2004, for each state and the District of Columbia. We are giving this notice in accordance with the 1976 amendment to the Federal Election Campaign Act, Title 2, United States Code, Section 441a(e).

FOR FURTHER INFORMATION CONTACT: John F. Long, Chief, Population Division, Bureau of the Census, Department of Commerce, Room 2011, Federal Building 3, Washington, DC 20233, telephone (301) 763-2071.

SUPPLEMENTARY INFORMATION: Under the requirements of the 1976 amendment to the Federal Election Campaign Act, Title 2, United States Code, Section 441a(e), I hereby give notice that the estimates of the voting age population for July 1, 2004, for each state and the District of Columbia are as shown in the following table.

Estimates of the Population of Voting Age for Each State and the District of Columbia: July 1, 2004
[In thousands]
Area | Population 18 and over
United States | 220,377,406
Alabama | 3,435,649
Alaska | 467,206
Arizona | 4,196,574
Arkansas | 2,076,079
California | 26,297,336
Colorado | 3,422,514
Connecticut | 2,664,816
Delaware | 636,858
District of Columbia | 443,976
Florida | 13,393,871
Georgia | 6,496,816
Hawaii | 964,147
Idaho | 1,020,851
Illinois | 9,475,484
Indiana | 4,637,274
Iowa | 2,274,014
Kansas | 2,052,011
Kentucky | 3,165,735
Louisiana | 3,350,809
Maine | 1,035,124
Maryland | 4,163,250
Massachusetts | 4,952,316
Michigan | 7,579,181
Minnesota | 3,860,678
Mississippi | 2,153,397
Missouri | 4,370,076
Montana | 718,772
Nebraska | 1,312,648
Nevada | 1,731,175
New Hampshire | 994,506
New Jersey | 6,542,820
New Mexico | 1,411,002
New York | 14,654,725
North Carolina | 6,422,729
North Dakota | 495,411
Ohio | 8,679,799
Oklahoma | 2,663,683
Oregon | 2,742,229
Pennsylvania | 9,569,283
Rhode Island | 836,819
South Carolina | 3,173,368
South Dakota | 580,009
Tennessee | 4,509,673
Texas | 16,223,243
Utah | 1,648,925
Vermont | 486,500
Virginia | 5,654,927
Washington | 4,717,768
West Virginia | 1,430,713
Wisconsin | 4,201,040
Wyoming | 389,597

I have certified these counts to the Federal Election Commission.

Dated: January 7, 2005.
Donald L. Evans,
Secretary, Department of Commerce.

[FR Doc. 05-898 Filed 1-14-05; 8:45 am]

BILLING CODE 3510-07-P